DEPARTMENT OF LABOR

WIA Disability Technical Assistance Consortia for Adults and Youth

AGENCY: Office of Disability Employment Policy, Department of Labor.

ACTION: Notice of availability of funds and solicitation for grant applications (SGA 01-04).

SUMMARY: The U.S. Department of Labor (DOL)/or Department/, Office of Disability Employment Policy (ODEP), announces the availability of up to a total of $2.65 million to award two (2) competitive grants ¹. These grants are designed to fund two (2) related, but distinct, activities. The purpose of this Solicitation for Grant Applications (SGA) is to invite proposals from eligible candidates for each of the initiatives. Eligible candidates may bid on one of the two initiatives or may submit separate bids for each initiative. The Government reserves the right to award both grants to the same grantee, based on the best interests of the Government. Grants will be awarded for a one-year period and may be renewed (individually or in combination) with additional optional one-year grants for each of up to four (4) years.

¹ The term “grants” in this SGA refers to grants/cooperative agreements.

Both grants are to provide assistance to states and local area programs under the Workforce Investment Act of 1998 (WIA) in order to enable them to better serve people with disabilities.

The first of these two WIA Disability Technical Assistance grants, which focuses on adults with disabilities, is designed to deliver technical assistance support to WIA One-Stop Career Centers, State and Local Workforce Investment Boards and other key leaders that oversee and operate these adult oriented programs, to enable them to increase employment outcomes for people with disabilities.

The second WIA Disability Technical Assistance grant is designed primarily to deliver technical assistance to build the capacity of emerging and existing WIA-assisted youth programs to provide comprehensive services to young people with disabilities. Target audiences for this technical assistance will be State and Local Boards, Youth Councils and WIA grant recipients. In addition, this youth technical assistance effort will help to bridge the gap remaining between the broader workforce development system and other disability specific programs and services. Another objective of this youth technical assistance effort will be to provide program support to ODEP's High School/High Tech (HS/HT) program.

In addition, these two technical assistance efforts are expected to provide technical assistance services to four other (DOL/ODEP) grant programs. Grants for these programs are planned for release during this fiscal year. These are:

1. Customized Employment Grants for One-Stop Career Centers designed to demonstrate enhanced services for adults with disabilities;

2. Innovative Grants to WIA Youth Programs that are designed to demonstrate enhanced services to youth with disabilities;

3. High School/High Tech Realignment Grants to assist existing programs in entering into WIA partnerships; and

4. High School/High Tech Start-up Grants to assist localities in starting programs at new locations, in partnership with WIA activities.

DATES: A bidder's conference will be held on July 18, 2001. The purpose of this conference is to provide interested parties the opportunity to ask questions concerning these grants. Transcripts of the conference will be made available. Requests may be sent to (see For Further Information Contact) or write to the address below.

One (1) ink-signed original, complete grant application plus three (3) copies of the Technical Proposal and three (3) copies of the Cost Proposal shall be submitted to the U.S. Department of Labor, Procurement Services Center, Attention Grant Officer, Reference SGA 01-04, Room N-5416, 200 Constitution Avenue, NW., Washington, DC 20210, not later than 4:45 p.m. ET, August 10, 2001. Hand-delivered applications must be received by the Procurement Services Center by that time.

ADDRESSES: Grant applications must be hand delivered or mailed to U.S. Department of Labor, Procurement Services Center, Attention: Grant Officer, Reference SGA 01-04, Room N-5416, 200 Constitution Avenue, NW., Washington, DC 20210. Applicants must verify delivery to this office directly through their delivery service and as soon as possible.

FOR FURTHER INFORMATION, CONTACT: Applications will not be mailed. The Federal Register may be obtained from your nearest government office or library. Questions concerning this solicitation may be sent to Cassandra Willis, at the following Internet address: willis-cassandra@dol.gov.

Late Proposals: The grant application package must be received at the designated place by the date and time specified or it will not be considered. Any application received at the Procurement Services Center after 4:45 p.m. ET, August 10, 2001, will not be considered unless it is received before the award is made and:

3. It was sent by registered or certifed mail not later than the fifth calendar day before August 10, 2001.

4. It is determined by the Government that the late receipt was due solely to mishandling by the Government after receipt at the U.S. Department of Labor at the address indicated; or

3. It was sent by U.S. Postal Service Express Mail Next Day Service-Post Office to Addressee, not later than 5:00 p.m. at the place of mailing two (2) working days, excluding weekends and Federal holidays, prior to August 10, 2001.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise place impression (not a postage meter machine impression) that is readily identifiable without further action as having been applied and affixed by an employee of the U.S. Postal Service on the date of mailing. Therefore applicants should request the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by telegram or facsimile (FAX) will not be accepted.

SUPPLEMENTARY INFORMATION:

I. Authority

Consolidated Appropriations Act, 2001, Public Law 106-554, 114 STAT 2763A-10, 29 USC 557(b).

II. Background

This SGA supports the President's New Freedom Initiative which is designed to increase the number of people with disabilities, both youth and adults, who enter, re-enter, and remain in the workforce. The New Freedom Initiative ² is dedicated to increasing investment in and access to assistive technologies, a quality education, and increasing the integration of Americans with disabilities into the workforce and into community life. This initiative heightens the importance of similar DOL initiatives designed to increase the employment rate of people with disabilities.

² For more information about the New Freedom Initiative, go to the White House web page at www.whitehouse.gov/news/freedominitiatve.

There are approximately 54 million Americans with disabilities, 30 million of whom are of working age. Only 26% of working age adults with disabilities have a job or a business compared to 82% of those without disabilities (U.S. Bureau of the Census, Survey of Income and Program Participation, 1997). The Department of Labor report, Futureworks (2000) points out that while educational attainment made some difference in the rate of unemployment for people with disabilities, the employment figures for workers with significant disabilities are in sharp contrast to those for workers without disabilities. Among workers with college degrees, only 52% of those with severe disabilities reported labor market activity, compared to 90% of those with no disability (a gap of 38 percentage points.)

Title IV of the Workforce Investment Act of 1998 (Public Law 105-220), which amends the Rehabilitation Act, included several findings relating to ethnic and racial minorities as traditionally under-served populations in the vocational rehabilitation system (29 U.S.C. 718). Ethnic and racial minorities tend to have disabling conditions at a disproportionately high rate. The rate of work-related disability for Native Americans is about one and one-half times that of the general population. African-Americans are also one and one-half times more likely to be disabled than whites and twice as likely to be significantly disabled. According to the U.S. Census Bureau's 1994-1995 data approximately 85.5% of African-Americans with severe disabilities and 75.4% of Hispanics with severe disabilities are not working. Individuals with disabilities who are members of other minority groups are also disproportionately represented among the unemployed. Among the reasons for the disproportionately high rate of unemployment are disparities in the rehabilitation services provided to minorities with disabilities, fewer educational opportunities, poor outreach to minority communities, and inadequate transportation and housing.

As the workforce investment system evolves to become a point of streamlined entry to employment, it is critical that this system have the capacity to provide meaningful and effective opportunity to people with disabilities to secure employment. The system must develop critical expertise and linkages with other essential programs in order to provide a competent array of programs and services that create choices for people with disabilities to successfully become employed.

In addition, a key to increasing the employment of people with disabilities is to ensure that young people with disabilities are provided resources and assistance to move from school to work, as opposed to becoming dependent on welfare or other benefits programs. One way of accomplishing this goal is to increase the participation of youths with disabilities in mainstream workforce investment activities under WIA.

Youths with disabilities spend a significant portion of their time in poverty, dependent upon public assistance programs and relegated to the margins of society. They may encounter unfriendly work preparation programs that are reluctant to serve them. The educational and employment achievements of youth with disabilities are too low. According to the U.S. Department of Education, the national high school graduation rates (e.g., diplomas, GED, alternative certificates) for students with disabilities are below that of youth without disabilities. According to the National Center on Education Statistics (2001) 88% of students without disabilities graduate; according to the Office of Special Education Programs (2000) 62% of youth with disabilities graduate.³ Students with disabilities experience a school drop out rate of 31% compared to 11% of non-disabled youth. Youth with emotional disabilities experience an even higher drop out rate of 54%. It is estimated that only one-third of young people with disabilities who need job training receive it. Young people with disabilities also have significantly lower rates of participation in post-secondary education. Finally, the Social Security Administration has found that many young people with disabilities who enter the Supplementary Security Income (SSI)/Social Security Disability Insurance (SSDI) rolls are likely to remain on the program rolls for their entire life.

³ U.S. Department of Education, National Center on Education Statistics, The Condition of Education 2000 in Brief, Jeanne H. Nathanson NCES 2001-045, Washington, D.C.; U.S. Government Printing Office, 2001.

U.S. Department of Education, Office of Special Education and Rehabilitation Services, Twenty-second Annual Report to Congress on the Implementation of the Individuals with Disabilities Act, Washington, D.C.; U.S. Government Printing Office, 2000.

One of the most significant reforms under WIA section 129 (c) [29 U.S.C. 2854(c)], is the consolidation of the year-round youth program and the summer youth program into a single formula-based funding stream. Under WIA, each local workforce investment area must have a year round youth services strategy that incorporates summer youth employment opportunities as one of ten required program elements [WIA section 129 (c) (2) (C.), 29 U.S.C. 2854 (c)(2). The ten program elements reflect successful youth development approaches and focus on the following four key themes:

1. Improving educational achievement (including elements such as tutoring, study skills training, and instruction leading to secondary school completion; drop out prevention strategies, and alternative secondary school offerings);

2. Preparing for and succeeding in employment (including summer employment opportunities, paid and unpaid work experience, and occupational skills training);

3. Supporting youth (including supportive services needs, providing adult mentoring, follow-up services, and comprehensive guidance and counseling); and

4. Offering services intended to develop the potential of young people as citizens and leaders (including leadership development opportunities).

WIA, therefore, provides a variety of workforce investment programs that can assist both youth and adults with disabilities in attaining their career ambitions. The potential for these programs to prepare eligible participants with disabilities for employment is great. Moreover, WIA-funded programs must take up their responsibilities as vital partners in the broad spectrum of preparing individuals for the workforce. These services need to be made available to people with disabilities. Traditionally, however, people with disabilities are not recruited to participate in these programs. WIA service providers may not be aware of the need to serve youth and adults with disabilities in their communities and may lack the resources to develop strong partnerships and equitable referral and assessment system.

The U.S. Department of Labor has determined that there is an appreciable need for a sustained and coordinated initiative to build the capacity of WIA-assisted programs and their workforce partners, including providers, employers, people with disabilities, family members, and others, to better serve youth and adults with disabilities. This need has been highlighted as a critical priority in the FY 2001 budget appropriation for the Department through the Consolidated Appropriations Act, 2001, Public Law 106-554, 114 STAT 2763A-10, 29 U.S.C. 557(b).

Recently, the Office on Disability Employment Policy (ODEP) was established within DOL (Public Law 106-554) to provide policy direction for serving all individuals with disabilities. Key among ODEP's responsibilities is to provide technical assistance and support designed to assist various DOL programs, and to thereby increase the capacity of those programs to serve people with disabilities.

In order to fulfill its mission, ODEP is implementing a multiple-prong approach.

This approach includes:

1. Under this SGA, the establishment of provider(s) of technical assistance service to support the workforce investment system in building capacity to increase employment for people with disabilities, and to provide critical implementation and analysis to ODEP to assist in its responsibilities for providing recommendations for policy direction;

2. Under a separate SGA, the award of Customized Employment Grants, designed to develop models and to demonstrate to all One-Stop Career Centers and their partners, strategies for maximizing their capacity for serving people with disabilities; and,

3. Under a separate SGA, the award of Innovative WIA Youth Demonstration Grants which are designed to demonstrate to all WIA Youth programs systems change strategies for maximizing their capacity to serve youths with disabilities.

In combination, these activities will substantially contribute to achieving the goals of the President's New Freedom Initiative.

There are other programs which relate to, but are not directly affected by, the technical assistance activities under this SGA. Some examples include DOL's Work Incentive Grants (WIG's) which are designed to enhance service delivery to people with disabilities accessing One-Stop Centers and their programs, by establishing linkages to and among existing state, local and private non-profit entities in order to facilitate seamless service access for these individuals.

In addition, DOL has entered into an interagency agreement with the National Institute on Disability Research and Rehabilitation (NIDRR) and the Rehabilitation Services Administration (RSA) to provide technical assistance to One-Stop Centers through their network of Disability Business Technical Assistance Centers (DBTAC's) and Rehabilitation Community Education Programs (RCEP's). The Ticket-to-Work and Work Incentives Improvement Act provides increased opportunities for people with disabilities who are SSI/SSDI beneficiaries by addressing some of the major barriers encountered by these individuals as they attempt to gain employment. The Department of Education's Office of Special Education Programs recently funded a new National Center on Secondary Education and Transition and the National Youth Leadership Network to increase opportunities for young people with disabilities. The Department of Health and Human Services, through the Health Resources Services Administration's Maternal and Child Health Bureau funds a program to promote the transition and employment of youths with special health care needs called Healthy and Ready to Work. While these efforts are distinct from the consortia supported by this SGA, they are complementary and should work in close cooperation with both the WIA Disability Technical Assistance Consortium for Adults and the Consortium for Youth.

III. Purpose

The purpose of this SGA is to implement two disability technical assistance efforts (adults and youth) in order to support the capacity building for WIA-funded programs and partners and provide policy analysis and information to ODEP about employment and disability. Technical assistance services must seek to form strong linkages with essential programs and experts, including but not limited to:

1. Disability programs and programs with a general audience which can serve adults and youth with disabilities, such as the workforce investment system, vocational rehabilitation, special education, general, adult and vocational education, postsecondary education, small business, health care, social security, housing, and transportation programs and services;

2. Disability and family organizations;

3. Employers in the workforce investment system; and

4. National program and policy experts.

These grantees will also develop partnerships with other researchers, technical assistance providers, dissemination centers, and other essential programs, to assist in organizing and providing technical assistance and disseminating information.

In addition, the project(s) funded under these grants must provide technical assistance to four categories of grantees planned for funding during this fiscal year. These are:

1. Customized Employment Grants for One-Stop Career Centers.

2. Innovative Grants to WIA Youth Programs.

3. High School/High Tech Realignment Grants.

4. High School/High Tech Start-up Grants.

These four other grant programs are required to participate in the technical assistance efforts sponsored under this SGA. These grants will also provide policy implementation research and analysis to the Office of Disability Employment Policy.

Finally, these technical assistance efforts will serve as a repository of the materials, approaches, and results of the other four grant programs and will be charged with including successful approaches in their overall technical assistance work with states and with local WIA-funded programs and partners.

IV. Statement of Work—Option 1; WIA Disability Technical Assistance Consortium for Adults

This initiative will fund a WIA Disability Technical Assistance Consortium for Adults. The overall purpose of this adult technical assistance consortium is to:

1. provide support to grantees awarded under the ODEP Customized Employment SGA, including coordinating strategic planning, technical assistance and capacity building efforts for increasing customized employment and wages of people with disabilities through One-Stop Centers;

2. Collect and analyze employment policy-related information for ongoing feedback to the Office of Disability Employment Policy (ODEP) and otherwise support ODEP as requested in its efforts to increase employment, choice and wages for persons with disabilities through the workforce investment system, including conducting policy analysis and research on policies and practices used in states as they develop capacity in this area;

3. Coordinate and provide training and technical assistance to DOL regional staff, and State and Local Boards on employment for people with disabilities, including assistance in developing model policies and guidance; and

4. Act as a central locus of information and expertise on employment and disability for WIA partner systems and agencies and others involved in provision of employment and related supports for people with disabilities.

The adult technical assistance consortium must form strong linkages with:

1. Disability programs and generic programs and experts which can serve adults with disabilities, such as the workforce development system, vocational rehabilitation, special education, general, adult and vocational education, postsecondary education, small business, developmental disability, health care, social security, housing, and transportation programs and services;

2. Disability and family organizations;

3. Employers to the workforce development system; and

4. National program and policy experts.

This consortium shall develop partnerships with other researchers, national experts, technical assistance providers, and dissemination centers in organizing and providing technical assistance and disseminating information.

The WIA Technical Assistance Consortium for Adults must provide technical assistance services and materials which include the following:

1. Provide and coordinate strategic planning, technical assistance and capacity building efforts for increasing customized employment and wages of people with disabilities through One-Stops Centers, including information on policies and practices used in states as they develop capacity, including the following:

a. Provide technical assistance, training and information assistance to each of the grantees under the Customized Employment Grants funded by ODEP, including providing consultation, training, materials development, dissemination, linkages to experts and exemplary practices; and otherwise connect stakeholder groups with successful practices in their respective areas in order to increase their capabilities and performance in securing customized employment for people with disabilities.

b. Develop linkages and collaborate with other national federal initiatives providing services and supports for people with targeted disabilities (including but not limited to systems change efforts promoting enduring systems improvement and comprehensive coordination; health care; housing; transportation; education; supported employment; benefits planning and assistance; small business development; technology related assistance; etc.), and other national initiatives as appropriate.

c. Provide technical assistance, training, and information that integrates validated best practices and promising practices for improving choice in employment and increasing wages for people with disabilities into the workforce investment system, including implementation activities to ensure that people with disabilities have access to appropriate supports for employment, including transportation, personal assistance, assistive technology and housing.

2. Provide training and technical assistance to DOL regional staff, and State and Local Boards, and others at the request of ODEP, on employment for people with disabilities, in order to increase professional expertise and provide assistance in developing model policies and guidance, including the following:

a. Provide training and technical assistance to the national and regional staff of DOL's Wage and Hour Division, and others involved in implementation of section 14-(c) of the Fair Labor Standards Act (29 U.S.C. 214 (c.), including providers, to increase their knowledge and capacity about increasing wages for people with disabilities through customized employment.

b. Develop, implement and maintain an assessment of the needs of individual State Boards and ODEP grantees to determine the array, type, and intensity of technical assistance, training, and information to be provided.

c. Coordinate and conduct technical assistance and capacity building activities based on an assessment of needs as well as requests for assistance from DOL regional staff and State and Local Boards.

d. Provide technical assistance, training, and information to increase understanding by systems of disability related employment issues such as health care, transportation, work incentive provisions, benefits planning, housing, etc.

3. Act as a central locus of information and expertise on employment and disability for WIA partner systems and agencies and others involved in providing employment and related supports for people with disabilities, including the following:

a. Provide coordination and information sharing among multiple DOL grantees and initiatives of other agencies related to people with disabilities (such as projects of the Rehabilitation Services Administration (RSA), Office of Special Education Programs (OSEP), Department of Health and Human Services (HHS), Health Care Finance Administration (HCFA), Social Security Administration (SSA), Small Business Administration (SBA), National Institute on Disability and Rehabilitation Research (NIDRR), including coordinating with other national initiatives.)

b. Provide national linkages to information, experts and activities on exemplary and promising practices in a range of areas related to disability.

c. Provide information and conduct initiatives to educate employers, and the general public about the abilities of people with disabilities to work in a wide variety of occupations and contribute to the workforce.

d. Provide information to educate state and local policymakers, systems personnel, and people with disabilities and their families, providers, including educators, and other leaders as appropriate, about changes in policy and practice that facilitate an increase in employment and wages for people with disabilities.

e. Develop and disseminate materials to supplement technical assistance and training. All materials must be made available through an accessible internet web site.

f. Serve as a repository and dissemination center for the information and materials of ODEP grantees and include successful approaches from the grantees in the overall technical assistance, training, and information services approach.

4. Conduct policy studies and otherwise collect and analyze employment policy-related information for ongoing feedback to the Office of Disability Employment Policy (ODEP) and otherwise support ODEP, as requested, in its efforts to increase employment, choice and wages for persons with disabilities through the workforce investment system, including the following.

a. Research, collect and disseminate information from States about effective and meaningful participation of people with disabilities in One-Stop Centers and the workforce investment system. Work with ODEP in identifying areas for policy research, and provide ongoing feedback using new research and research from aggregated experiences of Customized Employment grantees (funded by ODEP under separate solicitation.) Collaborate with other federal technical assistance projects that provide information and/or technical assistance about increasing employment and needed supports for people with disabilities in conducting policy studies, as appropriate.

b. Conduct studies and analysis about employment characteristics and conditions of people with disabilities currently in segregated settings such as institutions, nursing homes and facility-based settings, and collaborate with ODEP in developing a range of strategies to respond to identified needs.

c. Conduct studies and otherwise respond to requests for information, analysis and other assistance from ODEP on national employment policy as it impacts people with disabilities and the workforce investment system.

Other Requirements

All applicants for the WIA Disability Technical Assistance Consortium for Adults must submit a Management Plan. The Plan will identify the overall organizational design including its functional structure. The Plan must identify key staff members of the Technical Assistance Consortium (including subcontractors) and indicate time commitments for each. Consultants should be identified and resumes included in the Appendix. The Management Plan should also include a system that provides for evaluation and feedback. This system should include the methodology by which information will be gathered and continuous improvements achieved. The Management Plan should also document any “ramping-up” of project activities over the project implementation period and provide planned time lines for project activities.

DOL will arrange for an independent evaluation of outcomes, impacts, and benefits of the grants. Grantees must make records available to evaluation personnel, as specified by the Department. Grantees funded under this SGA must make positive efforts to employ and advance in employment qualified individuals with disabilities within project activities.

Applicants and grant recipients funded under this SGA must involve members of four specific groups in implementation of the grant(s):

1. Youth and adults with disabilities;

2. relevant experts in the field of disability (such as disability organizations, researchers, family members and organizations, independent living centers, or service providers and national experts in relevant areas);

3. employers; and,

4. experts in disability policy.

Throughout the course of the project, grantees must collaborate with other research institutes, centers, and studies and evaluations, that are supported by DOL and other relevant Federal agencies. Applicant (and all consortia partners) shall document their organization's commitment to the objectives of the project.

V. Statement of Work—Option 2; WIA Disability Technical Assistance Consortium for Youth

A. WIA-Assisted Youth Programs

This initiative will fund a WIA Disability Technical Assistance Consortium for Youth. The primary purpose of this grant is to enhance the capacity of WIA-assisted youth programs to increase participation and improve results for youth with disabilities. Under WIA, DOL has established a “Vision for Youth” that states that all youth, particularly out-of-school youth, will acquire the necessary skills and work experience to successfully transition into adulthood, careers and further education and training. There are four themes for the youth services delivery system developed under WIA:

1. Improvement in educational achievement;

2. Preparation for and success in employment;

3. Supports for youth; and

4. Services to help youth develop as citizens and leaders.

WIA also establishes requirements for the youth activities for providing year round services; follow-up services, summer employment activities, and services to out-of-school youth.

A significant aspect to the WIA-assisted youth programs is the establishment of Youth Councils, as a subgroup of the Local Board. With the approval of the Local Board each Council could develop a coordinated youth policy; strengthen linkages between existing local youth services; draw upon expertise of all related community/employer groups; and bring a youth perspective to the WIA programs. Eligible participants targeted for WIA youth programs include both in-and out-of-school youth, with a large share of resources going towards out-of-school youth; and youth ages 14 to 21. Currently, DOL is investing $2.5 billion across seven WIA and other youth programs: formula-funded youth programs; Job Corps; Apprenticeships; Indian Youth Programs; Migrant Youth Programs; School-to-Work; and the Youth Opportunity Grants Program.

WIA-assisted youth programs hold a tremendous potential to assist youths with disabilities in meeting their employment, postsecondary, and independent living goals. This technical assistance effort is designed to help establish acceptance within the WIA-funded youth programs that both during and after the mandatory secondary school years, WIA-assisted youth services can represent a key pathway to employment for youths with disabilities and should be considered a vital possibility alongside vocational rehabilitation, and postsecondary education. The goal of this technical assistance effort is to deliver the knowledge and understanding needed to enable State and Local Boards, Youth Councils, and WIA-assisted youth program operators to confidently and aggressively recruit, admit, and successfully serve young people with disabilities. The overall purposes of this grant are to:

1. Strategically leverage and build the capacity of WIA-funded youth programs and ensure increasing levels of participation by youths with disabilities;

2. Aid and assist the implementation of ODEP funded Innovative Demonstration Grants to Workforce Investment Act Youth Programs; and

3. Generally support the ODEP leadership in its efforts to advance employment policy for youths with disabilities.

The youth technical assistance consortium shall form strong linkages with:

1. Disability programs and programs with a general audience which can serve youth with disabilities, such as the workforce development system, vocational rehabilitation, special education, general, adult and vocational education, postsecondary education, developmental disability, health care, social security, housing, and transportation programs and services;

2. Disability and family organizations; and

3. Employers to the workforce development system.

This consortium shall develop partnerships and tap into the expertise of other researchers, technical assistance providers, and dissemination centers in organizing and providing technical assistance and disseminating information.

The Technical Assistance Consortium for Young People with Disabilities must perform all of the following:

1. Provide technical assistance, training, and information to assist State and Local Boards, Youth Councils, and WIA-assisted youth programs in the areas of governance, service delivery, performance assessment, technology accessibility, and reasonable accommodations that will result in an increase in the number of youths with disabilities who receive youth services.

2. Provide technical assistance, training, and information to increase understanding by WIA-assisted youth service providers about disability related employment issues such as health care, transportation, work incentive provisions, benefits planning, housing, etc.

3. Provide information to educate relevant stakeholders, including state and local policymakers and systems personnel, including educators, as well as families, and youth about needed changes in policy and practice in order to increase employment and wages for young people with disabilities.

4. Provide information to educate employers and the general public about the abilities of youths with disabilities to work in a wide variety of occupations.

5. Provide technical assistance, training, and information that integrates validated best practices for improving transition results for young people with disabilities into the WIA-assisted youth program elements, including:

a. Promote effective structures, policies, and practices to improve results for youths with disabilities in WIA-assisted programs in core youth program themes and elements;

b. Promote effective service interventions and approaches that help young people with disabilities to overcome barriers to positive education and employment outcomes;

c. Promote the link between academic and occupational skill standards; and on the integration of academic and applied learning in real work settings;

d. Promote youth-centered planning and development (e.g., assessment, choice, rights and responsibilities, life skills, etc.);

e. Promote physical and mental health resources and the link to positive educational and employment outcomes; and

f. Promote strategies for increased business, labor, family, and community involvement.

6. Develop and leverage linkages with other state and local initiatives providing services and supports for young people with disabilities (including but not limited to systems change efforts promoting enduring systems improvement and comprehensive coordination; health care; housing; transportation; education; supported employment; small business development; technology related assistance; private foundations; faith-based initiatives).

7. Provide technical assistance, training, and information (including program evaluation technical assistance) to the ODEP-assisted Innovative Demonstration Grants to Workforce Investment Act Youth Programs.

8. Serve as a repository and dissemination center for the materials developed by ODEP grantees and include successful approaches from the grantees in the overall technical assistance, training, and information services approach.

9. Collaborate with other Federal technical assistance projects that provide information about transition, postsecondary education, employment, and independent living issues for young people with disabilities.

10. Implement and maintain an assessment of the needs of individual State and Local Boards, Youth Councils, WIA-funded youth programs, and ODEP grantees of the overall needs of these audiences to determine the array, type, and intensity of technical assistance, training, and information to be provided.

11. Develop and disseminate materials to supplement technical assistance and training. All materials must be made available through an accessible Internet web site.

B. High School/High Tech/Program Support

Additionally, the WIA Disability Technical Assistance Consortium for Youth grant must provide technical assistance support to ODEP's High School/High Tech program. ODEP's High School/High Tech (HS/HT) program is designed to provide young people with disabilities with an opportunity to explore their interest in pursuing further education leading to a technology related career.⁴ It serves either in-school or out-of-school youths with disabilities in a year long program of corporate site visits, mentoring, job shadowing, guest speakers, after school activities and paid summer internships. The HS/HT program responds to all four of WIA's youth programming themes (employment preparation, educational achievement, support, and leadership). It includes eight of the ten WIA required youth programming elements:

⁴ For more information on the High School/High Tech program visit: http://www50.pcepd.gov/pcepd/pubs/hsht00/toc.htm.

1. Summer employment opportunities;

2. Work experience;

3. Occupational skills training;

4. Tutoring;

5. Support services;

6. Adult mentoring;

7. Comprehensive guidance; and

8. Leadership development.

Currently, 60 High School/High Tech (HS/HT) programs are in operation in 18 states. These HS/HT programs began under the national leadership of the former President's Committee on Employment of People with Disabilities (PCEPD). With the beginning of the current federal fiscal year (FY '01), the PCEPD ceased to exist. All its assets, projects and staff were transferred into a newly created Office of Disability Employment Policy (ODEP) of the U.S. Department of Labor.

The High School/High Tech Program Support component of this grant will provide the following:

1. Conduct research for all manner of appropriate funding resources/possibilities (e.g., businesses, foundations, local, state, and federal government sources, especially WIA-assisted programs); maintain a data base on the results of this research; and disseminate information to current and prospective HS/HT program sites (e.g., periodic fact sheets, web based listings).

2. Review current HS/HT programs for successful funding strategies and document and disseminate them; work with a minimum of 25-30 HS/HT sites during the grant year to identify potential grant funding services that are appropriate to each programs circumstances, with an emphasis on WIA funding possibilities; and develop 10-12 profiles of successful HS/HT fund raising activities;

3. Deliver technical assistance support on the HS/HT program to current and prospective sites and sponsors, including information on the program's goals, core values, start-up strategies, program components, materials, etc. These sites will be identified to the grantee by the HS/HT program manager;

4. Deliver technical assistance which helps create a partnership between HS/HT program sites and with local WIA programs;

5. Prepare and maintain existing annual monitoring and reporting of the HS/HT programs nationwide; and,

6. Advise HS/HT grantees on the type of project data they need to collect in order to assess the effectiveness of their project.

Other Requirements

All applicants for the WIA Disability Technical Assistance Consortium for Youth are required to submit a Management Plan. The Plan must identify the overall organizational design including its functional structure. The Plan must identify key staff members of the Technical Assistance Consortium (including subcontractors) and indicate time commitments for each. Consultants must be identified and resumes included in the Appendix. The Management Plan shall also include a system that provides for evaluation and feedback. This system shall include the methodology by which information will be gathered and continuous improvements achieved. The Management Plan must also document any “ramping-up” of project activities over the project implementation period and provide planned time lines for project activities.

DOL will arrange for an independent evaluation of outcomes, impacts, and benefits of the grants. Grantees must make records available to evaluation personnel, as specified by the Department. Grantees funded under this SGA must make positive efforts to employ and advance in employment qualified individuals with disabilities within project activities.

Applicants and grant recipients funded under this SGA shall involve members of four specific groups in implementation of the grant(s):

1. Youth and adults with disabilities;

2. Relevant experts in the field of disability (such as disability organizations, researchers, family members and organizations, independent living centers, or service providers);

3. Employers; and

4. Policymakers.

Throughout the course of the project, grantees must collaborate with other research institutes, centers, and studies and evaluations, that are supported by DOL and other relevant Federal agencies. Applicant (and all consortia partners) shall document their organization's commitment to the objectives of the project.

VI. Funding Availability

The initial period of performance will be 12 months from the date of execution by the Government. Based on availability of funds, project performance, and needs, the Department may elect to exercise its option to extend these grants for up to four additional option years for a total not to exceed 60 months. With the agreement of the grantee, the Department also may elect to change, modify and/or supplement these grants during this period based on Department's needs. The funding for these grants is as follows:

Technical Assistance Consortium for Adults with Disabilities: up to $1,200,000

Technical Assistance Consortium for Youth with Disabilities: up to $1,450,000

with $450,000 of the total Youth funding allocated for High School/High Tech Program Management Support outlined above.

VII. Eligible Applicants

Eligible applicants may be a public/private non-profit or for-profit organization or consortia, including faith-based organizations with demonstrated appropriate experience and expertise. If the proposal includes multiple consortia members, there must be a prime or lead member who is the responsible fiscal agent.

All applications must clearly identify the lead grant recipient and fiscal agent, as well as all other members of the Consortium applying for the grant. In addition, the application must identify the relationship between all of the members of the consortia. The application must identify who the grant/lead recipient (and/or fiscal agent) is and both identify and describe its capacity to administer this project.

PLEASE NOTE THAT ELIGIBLE GRANT/COOPERATIVE AGREEMENT APPLICANTS MUST NOT BE CLASSIFIED UNDER THE INTERNAL REVENUE CODE AS A 501(c)(4) ENTITY. See 26 U.S.C. 506(c)(4). According to Section 18 of the Lobbying Disclosure Act of 1995, an organization, as described in Section 501(c)(4) of the Internal Revenue Code of 1986, that engages in lobbying activities will not be eligible for the receipt of federal funds constituting an award, grant, or loan.

VIII. Application Contents

There are four required sections of the application. Requirements for each section are provided in this application package. Applicants must submit a signed original and three copies of the application. Be sure to indicate on the title page whether your organization is applying for the WIA Disability Technical Assistance Consortium for Adults (Section IV, Option 1, above); or, the WIA Disability Technical Assistance Consortium for Youth (Section V, Option 2, above).

1. Project Narrative

Applicants shall include a narrative that addresses the evaluation criteria in Section IX that will be used by the Technical Evaluation Committee in evaluating individual proposals.

The Project Narrative must be double-space (no more than three lines per vertical inch) all text in the application narrative, including titles, headings, footnotes, quotations, and captions, as well as all text in charts, tables, figures, and graphs is limited to no more than 70 pages. A page is 8.5″ × 11″ (on one side only) with one-inch margins (top, bottom, and sides). If using a proportional computer font, use no smaller than a 12-point font, and an average character density no greater than 18 characters per inch. If using a non-proportional font or a typewriter, do not use more than 12 characters per inch.

2. Executive Summary

The Executive summary should be no more than 2 single spaced pages in length giving a clear summary of the project narrative.

3. Management Plan

The Management Plan should be no more than 10 double spaced pages in length and formatted as required in the Project Narrative.

4. Project Financial Plan

To be considered. applications must include a detailed financial plan which identifies by line item the budget plan designed to achieve the goals of this grant. The Financial Proposal must contain the SF-424, Application for Federal Assistance, (Appendix A) and Budget Information Sheet SF-424A (Appendix B).

In addition, the budget must include on a separate page a detailed cost analysis of each line item. Justification for administrative costs must be provided. Approval of a budget by DOL is not the same as the approval of actual costs. The individual signing the SF-424 on behalf of the applicant must represent the responsible financial and administrative entity for a grant should that application result in an award.

IX. Evaluation Criteria/Selection

A. Evaluation Criteria

The Project Narrative and the Management Plan in Part VIII must address the following evaluation criteria.

1. Significance of the Proposed Project (15 Points)

In evaluating the significance of the proposed project, the Department will consider the following factors:

a. The national significance of the proposed project;

b. The proposed project's potential contribution of to increase knowledge or understanding of problems, issues, or effective strategies for WIA programs in serving the target population, including identification of various policy strategies for furthering employment of people with disabilities through the workforce investment system;

c. The extent to which the proposed project is likely to yield findings that may be used by other appropriate agencies and organizations;

d. The extent to which the proposed project involves the development or demonstration of promising new strategies that build on, or are alternatives to, existing strategies;

e. The likely utility of the information, materials, processes, or techniques that will result from the proposed project, including the potential for their effective use in a variety of other settings;

f. The extent to which the results of the proposed project are to be disseminated in ways that will enable others to use the information or strategies; and

g. The importance or magnitude of the results or outcomes likely to be attained by the proposed project.

2. Quality of the Project Design (25 Points)

In evaluating the quality of the proposed project design, the Department will consider the following factors:

a. The extent to which the goals, objectives, and outcomes to be achieved by the proposed project are clearly specified and measurable;

b. The extent to which the design of the proposed project includes a high-quality review of the relevant literature, a high-quality plan for project implementation, and the use of appropriate methodological tools to ensure successful achievement of project objectives;

c. The extent to which the design of the proposed project reflects up-to-date policy and program knowledge from research and effective practice for technical assistance, training, policy analysis, and information;

d. The extent to which the proposed project will be coordinated with similar or related Federal technical assistance, research, training, and information efforts;

e. The extent to which the proposed project encourages involvement of people with disabilities, relevant experts, and organizations; and

f. The extent to which performance feedback and continuous improvement are integral to the design of the proposed project.

3. Quality of Project Personnel (20 Points)

In evaluating the quality of project personnel, the Department will consider the applicants plan to encourage applications for employment from persons who are members of groups that have traditionally been under represented based on race, color, national origin, gender, age, or disability.

In addition, the Department will consider the following factors:

a. The qualifications, including relevant training and experience, of key project personnel; and,

b. The qualifications, including relevant training and experience, of project consultants or subcontractors.

4. Quality of the Project Evaluation (20 Points)

In evaluating the quality of project evaluation, the Department considers the following factors:

a. The extent to which the methods of evaluation are thorough, feasible, and appropriate to the goals, objectives, and outcomes of the proposed project;

b. The extent to which the methods of evaluation are appropriate to the context within which the project operates;

c. The extent to which the methods of evaluation provide for examining the effectiveness of project implementation strategies;

d. The extent to which the methods of evaluation include the use of objective performance measures that are clearly related to the intended outcomes of the project and will produce quantitative and qualitative data to the extent possible;

e. The extent to which the evaluation will provide guidance about effective strategies suitable for replication or testing in other settings; and

f. Methods for measuring, in both quantitative and qualitative terms, program results and satisfaction of recipients of technical assistance, training, information, or program management support services.

5. Quality of the Management Plan (10 Points)

In determining the quality of the management plan for the proposed project, the Department will consider the following factors:

a. The adequacy of the management plan to achieve the objectives of the SGA, including clearly defined responsibilities for accomplishing project tasks and time lines;

b. The adequacy of procedures for ensuring feedback and continuous improvement in the operation of the proposed project;

c. The adequacy of mechanisms for ensuring high-quality materials and services from the proposed project;

d. The extent to which the time commitments of the project director and other key project personnel are appropriate and adequate to meet the objectives of the proposed project; and

e. The method by which the applicant will ensure that a diversity of perspectives are brought to bear in the operation of the proposed project, including those of adults and/or youths with disabilities, families, workforce development professionals, the business community, a variety of academic and professional fields, recipients or beneficiaries of services, or others, as appropriate.

6. Adequacy of Resources (10 Points)

In evaluating the adequacy of resources for the proposed project, the Department will consider the following factors:

a. The adequacy of support, including facilities, equipment, supplies, and other resources, from the applicant organization or the lead applicant organization;

b. The relevance and demonstrated commitment of the lead applicant's organization (and all consortia partners) to the implementation and success of the project;

c. The extent to which the budget is adequate to support the proposed project; and,

d. The extent to which the costs are reasonable in relation to the objectives, design, and potential significance of the proposed project.

B. Selection Criteria

Except as specifically provided, DOL/ODEP acceptance of a proposal and an award of federal funds to sponsor any program(s) does not provide a waiver of any grant requirement and/or procedures. Grantees must comply with all applicable Federal statutes, regulations, administrative requirements and OMB Circulars. For example, the OMB circulars require, and an entity's procurement procedures must require that all procurement transaction shall be conducted, as practical, to provide open and free competition. If a proposal identifies a specific entity to provide the services, the DOL/ODEP's award does not provide the justification or basis to sole-source the procurement, i.e., avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the Government, considering factors such as:

1. Any efficiencies or economies of scale caused by awarding both the adult and the youth grants to one bidder or consortia;

2. Findings of the grant technical evaluation panel;

3. Geographic distribution of the competitive applications; and,

4. The Project's Financial Plan.

X. Reporting

The grantee must furnish a typed technical report to ODEP on a quarterly basis by March 30, June 30, September 30, and December 31. It is estimated that the quarterly technical report will take 24 hours to complete. The grantee must also furnish a separate financial report to ODEP on the quarterly basis mentioned above. The format for the technical progress report must contain the following information on program activities:

1. Technical assistance, training, and information efforts to One-Stop Centers and others including grant programs.

2. Policy studies and analysis.

3. Information/expertise gathered and documented.

4. Linkages developed, partnerships formed, with other organizations and groups.

5. Customer satisfaction feedback on services provided.

6. HS/HT support provided (youth grant only).

XI. Administration Provisions

A. Administrative Standards and Provisions

Grantees are strongly encouraged to read these regulations before submitting a proposal. The grant awarded under this SGA shall be subject to the following:

29 CFR Part 95—Uniform Administrative Requirements for Grants and Cooperative Agreements with Institutions of Higher Education, etc.

29 CFR Part 96—Federal Standards for Audit of Federally Funded Grants, Contracts, and Agreements.

29 CFR Part 97—Uniform Administrative Requirement for Grants and Cooperative Agreements to State and Local Governments.

B. Allowable Cost

Determinations of allowable costs shall be made in accordance with the following applicable Federal cost principles:

State and Local Government—OMB Circular A-87

Nonprofit Organizations—OMB Circular A-122

Profit-making Commercial Firms—48 CFR Part 31

Profit will not be considered an allowable cost in any case.

C. Grant Assurances

The applicant must include the attached assurances and certifications.

D. OMB Clearances

Offerers awarded a grant/cooperative agreement under this solicitation will be required to provide the supporting documentation needed to clear data collection instruments within the U.S. Department of Labor and the Office of Management and Budget under the Paperwork Reduction Act, as amended, if data collection activities under the grant/cooperative agreement require response from ten (10) or more members of the public. In this regard, the narrative for all projects should indicate the scope of planned data collection activity.

Signed at Washington, DC this 6th day of July, 2001.
Lawrence J. Kuss,
Grant Officer.

BILLING CODE 4510-23-P

Appendix A. Application for Federal Assistance, Form SF 424

Appendix B. Budget Information Sheet, Form SF 424A

Appendix C. Assurances and Certifications Signature Page

[FR Doc. 01-17410 Filed 7-10-01; 8:45 am]

BILLING CODE 4510-23-C